FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 19, 2015.

A. Federal Reserve Bank of Minneapolis (Jacquelyn K. Brunmeier, Assistant Vice President) 90 Hennepin Avenue, Minneapolis, Minnesota 55480-0291:

1. James L. Williams III, Casselton, North Dakota; to acquire voting shares of Goose River Holding Company, and thereby indirectly acquire voting shares of The Goose River Bank, both in Mayville, North Dakota.

Board of Governors of the Federal Reserve System, September 29, 2015.
Michael J. Lewandowski,
Associate Secretary of the Board.

[FR Doc. 2015-25097 Filed 10-1-15; 8:45 am]

BILLING CODE 6210-01-P